CIVIL RIGHTS COMMISSION

Sunshine Act Meeting Notice

AGENCY: United States Commission on Civil Rights.

ACTION: Notice of Commission business meeting.

SUMMARY: Notice is hereby given, pursuant to the provisions of the rules and regulations of the U.S. Commission on Civil Rights (Commission), and the Federal Advisory Committee Act (FACA), that a Business Meeting of the U.S. Commission on Civil Rights will be convened at 10 a.m. on Friday, October 21, 2016.

DATES: Friday, October 21, 2016, at 10 a.m. EST.

ADDRESSES: National Place Building, 1331 Pennsylvania Ave. NW., 11th Floor, Suite 1150, Washington, DC 20425 (Entrance on F Street NW.).

FOR FURTHER INFORMATION CONTACT: Brian Walch, Director, Communications and Public Engagement. Telephone: (202) 376-8371; TTY: (202) 376-8116; Email: publicaffairs@usccr.gov.

SUPPLEMENTARY INFORMATION: This business meeting is open to the public.

Hearing-impaired persons who will attend the briefing and require the services of a sign language interpreter should contact Pamela Dunston at (202) 376-8105 or signlanguage@usccr.gov at least seven business days before the scheduled date of the meeting.

Meeting Agenda

I. Approval of Agenda.

II. Business Meeting

A. Program Planning.

• Discussion of Concept Papers

• Update on Status of 2017 Statutory Enforcement Report

B. State Advisory Committees.

• State Advisory Committee Appointments

• Pennsylvania

• District of Columbia

• Arkansas

• Colorado

C. Management and Operations

• Staff Director's Report

III. Break until 11 a.m. for Presentation by Sylvia Mendez about her experiences as the Plaintiff in Mendez v. Westminster School District

• Presentation by Sylvia Mendez

IV. Adjourn

Dated: October 11, 2016.
Brian Walch,
Director, Communications and Public Engagement.

[FR Doc. 2016-24956 Filed 10-11-16; 4:15 pm]

BILLING CODE 6335-01-P